DEPARTMENT OF LABOR

Agency Information Collection Activities; Submission for OMB Review; Comment Request; Notice of Employee Rights Under National Labor Relations Act Complaint Process

AGENCY: Office of Labor-Management Standards, Department of Labor.

ACTION: Notice; request for comments.

SUMMARY: In compliance with the Paperwork Reduction Act of 1995 (PRA), the Department of Labor (DOL) is soliciting public comments regarding the proposed extension of this Office of Labor-Management Standards (OLMS)-sponsored information collection for the authority to continue the information collection request (ICR) titled, “Notice of Employee Rights under National Labor Relations Act Complaint Process,” currently approved under OMB Control Number 1245-0004.

DATES: Consideration will be given to all written comments received by July 15, 2025.

ADDRESSES: A copy of this ICR with applicable supporting documentation, including a description of the likely respondents, proposed frequency of response, and estimated total burden, may be obtained free by contacting Andrew Davis at (202) 693-0123 (this is not a toll-free number). For persons with a hearing or speech disability who need assistance to use the telephone system, please dial 711 to access telecommunications relay services.

Electronic submission: You may submit comments and attachments electronically at https://www.regulations.gov, by searching for Docket ID LMSO-2025-0001.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Andrew Davis, Director of the Office of Program Operations, Office of Labor-Management Standards, U.S. Department of Labor, 200 Constitution Avenue NW, Room N-5609, Washington, DC 20210, by telephone at (202) 693-0123 (this is not a toll-free number), 711 (TTY/TDD), or by email at olms-public@dol.gov.

SUPPLEMENTARY INFORMATION: Executive Order 13496 (E.O. 13496), signed on January 30, 2009, specifies certain provisions related to employees' rights under Federal labor law that Federal Government contracting departments and agencies must include in every Government contract, except for collective bargaining agreements and contracts for purchases under the Simplified Acquisition Threshold. The Order provides the text of these contractual provisions. One of these provisions requires contractors and subcontractors to post a notice informing employees of their rights under the National Labor Relations Act.

OLMS administers the enforcement provisions of Executive Order 13496, while the compliance evaluation and investigatory provisions are handled by the Department's Office of Federal Contract Compliance Programs (OFCCP), pursuant to the Order's implementing regulatory provisions (29 CFR part 471). Complaints can be filed with both agencies.

The Department seeks extension of the current approval to collect this information. An extension is necessary because if this information collection is not conducted, E.O. 13496 could not be enforced through the complaint procedure.

One of the Order's contractual provisions requires contractors and subcontractors to post a notice informing employees of their rights under the National Labor Relations Act. The Secretary is granted the authority to “prescribe the size, form, and content of the notice.” E.O. 13496, section 3(b). The notice, as prescribed by the Secretary, also lists activities that are illegal under the Act. The notice concludes with a general description of the remedies to which employees may be entitled if these rights have been violated and contact information for further information about those rights and remedies, as well as enforcement procedures.

The E.O. also requires contractors to include the same clauses in their nonexempt subcontracts and purchase orders, and describes generally the sanctions, penalties, and remedies that may be imposed if the contractor fails to satisfy its obligations under the Order and the clause.

The regulatory provisions implementing E.O. 13496 (29 CFR part 471) include the language of the required notices, and they explain posting and contractual requirements, the complaint process, the investigatory process, and sanctions, penalties, and remedies that may be imposed if the contractor or subcontractor fails to comply with its obligations under the Order. Specifically, 29 CFR part 471.11(c) sets forth the procedures that the Department must use when accepting written complaints alleging that a contractor doing business with the Federal government has failed to post the notice required by the Executive order.

The Department estimates a total of ten respondents with an equal number of responses per year. Since the ICR was last approved in 2022, the Department has received ten or fewer formal complaints each year. The Department thus maintains its estimate of ten complaints for the purposes of this renewal request. The Department continues to estimate that it will take a complainant 1.28 hours to file a complaint, for a total of 12.8 hours for the estimated 10 complaints.

Additionally, employees will incur costs of $0.77 per complaint in capital/start-up costs ($0.73 for standard-sized, rectangular envelopes postage in February 2025 ¹ + $0.03 for an envelope + $0.01 for paper) for a total cost of $7.70. (Although employees will submit many if not all complaints via email, the Department assumes, conservatively, that it will receive all via mail.) The total cost for the estimated ten complaints is therefore $7.70. There are no ongoing operation/maintenance costs associated with this information collection.

¹ See: https://www.usps.com/business/prices.htm.

Comments submitted in response to this notice will be summarized and/or included in the request for Office of Management and Budget approval of the information collection request; they will also become a matter of public record. Commenters are encouraged not to submit sensitive information (e.g., confidential business information or personally identifiable information such as a social security number).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three years. OMB authorization for an ICR cannot be for more than three years without renewal. The DOL notes that information collection requirements submitted to the OMB for existing ICRs receive a month-to-month extension while they undergo review.

Agency: DOL-OLMS.

Type of Review: Extension.

Title of Collection: Notice of Employee Rights under National Labor Relations Act Complaint Process.

OMB Control Number: 1245-0004.

Affected Public: Individuals or Households.

Total Estimated Number of Respondents: 10.

Frequency: On Occasion.

Total Estimated Number of Responses: 10.

Estimated Average Time per Response: 1.28 hours.

Total Estimated Annual Time Burden: 12.8 hours.

Total Estimated Annual Other Costs Burden: $7.70.

(Authority: 44 U.S.C. 3506(c)(2)(A))

Andrew Davis,
Director of the Office of Program Operations.

[FR Doc. 2025-08737 Filed 5-15-25; 8:45 am]

BILLING CODE 4510-86-P